DEPARTMENT OF HEALTH AND HUMAN SERVICES

Food and Drug Administration

[Docket No. 2007D-0125]

Draft Guidance for Industry: Evidence-Based Review System for the Scientific Evaluation of Health Claims; Availability; Correction

AGENCY: Food and Drug Administration, HHS.

ACTION: Notice; correction.

SUMMARY: The Food and Drug Administration is correcting a notice that appeared in the Federal Register of July 9, 2007 (72 FR 37246). The document announced the availability for public comment of a draft guidance entitled “Guidance for Industry: Evidence-Based Review System for the Scientific Evaluation of Health Claims.” The document was published with an incorrect Internet address for submitting electronic comments and an incorrect telephone number. This document corrects those errors.

FOR FURTHER INFORMATION CONTACT: Paula Trumbo, Center for Food Safety and Applied Nutrition (HFS-830), Food and Drug Administration, 5100 Paint Branch Pkwy., College Park, MD 20740, 301-436-2579.

SUPPLEMENTARY INFORMATION: In FR Doc. E7-13274, appearing on page 37246 in the Federal Register of Monday, July 9, 2007, the following corrections are made:

1. On page 37246, in the second column, in the ADDRESSES section, the phrase “http://www/fda/gov/dockets/ecomments” is corrected to read “http://www.fda.gov/dockets/ecomments”.

2. On page 37246, in the second column, in the FOR FURTHER INFORMATION CONTACT section, the telephone number “310-436-2579” is corrected to read “301-436-2579”.

Dated: August 23, 2007.
Jeffrey Shuren,
Assistant Commissioner for Policy.

[FR Doc. E7-17038 Filed 8-28-07; 8:45 am]

BILLING CODE 4160-01-S